PENSION BENEFIT GUARANTY CORPORATION

29 CFR Parts 4006 and 4007

RIN 1212-AB11

Premium Rates; Payment of Premiums; Variable-rate premium; Pension Protection Act of 2006

Correction

In proposed rule document E7-10412 beginning on page 30308 in the issue of Thursday, May 31, 2007, make the following correction:

On page 30313, in the third column, under the heading E.O. 12866, in the first paragraph, in the last line, “agency” should read “agency action:”.

[FR Doc. Z7-10412 Filed 6-15-07; 8:45 am]

BILLING CODE 1505-01-D

DEPARTMENT OF TRANSPORTATION

Federal Motor Carrier Safety Administration

49 CFR Part 393

[Docket No. FMCSA-1997-2364]

RIN 2126 AB07

Parts and Accessories Necessary for Safe Operation; Lamps and Reflective Devices

Correction

In rule document E7-11112 beginning on page 32011 in the issue of Monday, June 11, 2007, make the following correction:

§ 393.11 [Corrected]

On page 32014, in the second column, amendatory instruction 2, fifth line, “Deflectors” should read “Reflectors”.

[FR Doc. Z7-11112 Filed 6-15-07; 8:45 am]

BILLING CODE 1505-01-D

DEPARTMENT OF THE TREASURY

Internal Revenue Service

26 CFR Part 1

[REG-157711-02]

RIN 1545-BB61

Unified Rule for Loss on Subsidiary Stock

Correction

In proposed rule document 07-187 beginning on page 2964 in the issue of Tuesday, January 23, 2007, make the following correction:

On page 2968, in the third column, in the second full paragraph, “Example 6: Intragroup spin-off” should read “Example 6: Intragroup spin-off”.

[FR Doc. C7-187 Filed 6-15-07; 8:45 am]

BILLING CODE 1505-01-D